DEPARTMENT OF ENERGY

Federal Energy Regulatory Commission

[Docket No. CP06-461-001]

Northern Natural Gas Company; Notice of Amendment

August 1, 2007.

Take notice that on July 27, 2007, Northern Natural Gas Company (Northern), 1111 South 103rd Street, Omaha, Nebraska 68124, filed in Docket No. CP06-461-001, an application pursuant to section 7 of the Natural Gas Act (NGA) to amend the certificate issued in the above-reference proceeding on July 10, 2007, which authorized an increase in the certificated capacity at the Redfield Storage Field located in Dallas County, Iowa, all as more fully set forth in the application which is on file with the Commission and open to public inspection. This filing may be also viewed on the Web at http://www.ferc.gov using the “eLibrary” link. Enter the docket number excluding the last three digits in the docket number field to access the document. For assistance, call (866) 208-3676 or TTY, (202) 502-8659.

In this application, Northern requests an amendment to the certificate to: (1) Increase the maximum reservoir pressures; (2) continue the existing aggregated field capacity limit; (3) allow Northern to inject gas into the Elgin Formation for the limited purpose of operations and maintenance as discussed herein; and (4) modify the requirement to report pressures and reservoir-specific inventories at the aggregate levels to include only the initial year.

Any questions regarding this application may be directed to Michael T. Loeffler, Director of Certificates for Northern, 1111 South 103rd Street, Omaha, Nebraska 68124, (402) 398-7103 or Bret Fritch, Senior Regulatory Analyst, at (402) 398-7140.

There are two ways to become involved in the Commission's review of this project. First, any person wishing to obtain legal status by becoming a party to the proceedings for this project should, before the comment date of this notice, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

Dated: August 14, 2007.
Kimberly D. Bose,
Secretary.

[FR Doc. E7-15405 Filed 8-7-07; 8:45 am]

BILLING CODE 6717-01-P